INTERNATIONAL TRADE COMMISSION

[Inv. No. 337-TA-548]

In the Matter of Certain Tissue Converting Machinery, Including Rewinders, Tail Sealers, Trim Removers, and Components Thereof; Notice of Commission Decision Not To Review an Initial Determination Granting Complainants' Motion To Amend the Complaint and Notice of Investigation

AGENCY: U.S. International Trade Commission.

ACTION: Notice.

SUMMARY: Notice is hereby given that the U.S. International Trade Commission has determined not to review an initial determination (“ID”) issued by the presiding administrative law judge (“ALJ”) granting complainants” motion to amend the complaint and notice of investigation in the above-captioned investigation.

FOR FURTHER INFORMATION CONTACT: Jonathan Engler, Esq., Office of the General Counsel, U.S. International Trade Commission, 500 E Street, SW., Washington, DC 20436, telephone (202) 205-3112. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission based on a complaint filed by Fabrio Perini North America Inc. (“Perini-NA”) of Green Bay, Wisconsin. 70 FR 46884 (August 11, 2005). The complaint alleged violations section 337 of the Tariff Act of 1930, 19 U.S.C. 1337, in the importation into the United States, the sale for importation, and the sale within the United States after importation of certain tissue converting machinery, including rewinders, tail sealers, trim removers, and components thereof by reason of infringement of claims 1, 3, 6, 7, 8, 13, 14, and 15 of U.S. Patent No. 5,979,818, claims 1-5 of U.S. Patent No. Re. 35,729, and Claim 5 of U.S. Patent No. 5,475,917. The complaint and notice of investigation named Chan Li Machinery, Co., Ltd. (“Chan Li”) of Taipei Hsien, Taiwan as the respondent.

On November 15, 2005, Perini-NA filed a “Motion to File a First Amended Complaint” to add an additional patent to this investigation, i.e. United States Patent No. 6,948,677 (the “677 patent”), which issued on September 27, 2005. On December 5, 2005, the ALJ denied this motion, finding that Perini-NA had failed to provide a sufficient basis to allege that machines practicing the ‘677 patent had been imported or sold since issuance of the patent, or would be imported or sold in the future.

On January 4, 2006, Perini-NA filed its “Renewed Motion to Amend the Complaint and Notice of Investigation”, based on additional discovery. On January 17, 2006, Chan Li filed its opposition to the renewed motion to amend, arguing that the present procedural schedule would not permit it to prepare a proper defense with respect to the new ‘677 patent. On January 17, 2006, the Commission Investigative Staff filed a response in support of Perini-NA's motion to amend. Chan Li filed a motion for leave to reply to the Staff on January 18, 2006, in which it argued for a postponement of the current deadlines.

On January 20, 2006, the ALJ issued an ID (Order No. 10) granting Perini-NA's motion to amend the complaint and notice of investigation. The ALJ found good cause to add claims 7, 12, 15, and 16 of the ‘677 patent to this investigation. He also found that there is no evidence that an inordinate extension of the procedural schedule or target date would be required by the addition of the ‘677 patent to this investigation. The Commission has determined not to review this ID.

Issued: February 22, 2006.
By order of the Commission.
Marilyn R. Abbott,
Secretary to the Commission.

[FR Doc. E6-2797 Filed 2-27-06; 8:45 am]

BILLING CODE 7020-02-P